DEPARTMENT OF COMMERCE

Foreign-Trade Zones Board

[S-2-2013]

Foreign-Trade Zone 196—Fort Worth, TX, Foreign-Trade Subzone 196A—TTI, Inc., Approval of Additional Subzone Site, Fort Worth, TX

On January 4, 2013, the Executive Secretary of the Foreign-Trade Zones (FTZ) Board docketed an application submitted by Alliance Corridor, Inc., grantee of FTZ 196, requesting an additional site for Subzone 196A subject to the existing activation limit of FTZ 196, on behalf of TTI, Inc., in Fort Worth, Texas.

The application was processed in accordance with the FTZ Act and Regulations, including notice in the Federal Register inviting public comment (78 FR 2657, 1/14/2013). The FTZ staff examiner reviewed the application and determined that it meets the criteria for approval.

Pursuant to the authority delegated to the FTZ Board's Executive Secretary (15 CFR Sec. 400.36(f)), the application to establish an additional site of Subzone 196A is approved, subject to the FTZ Act and the Board's regulations, including Section 400.13, subject to FTZ 196's 2,000-acre activation limit, and further subject to the existing sunset provision applicable to Site 1 of the subzone.

Dated: February 28, 2013.
Andrew McGilvray,
Executive Secretary.

[FR Doc. 2013-05208 Filed 3-5-13; 8:45 am]

BILLING CODE P